ENVIRONMENTAL PROTECTION AGENCY

[FRL-8550-5]

Notice of Proposed Administrative Settlement Pursuant to the Comprehensive Environmental Response, Compensation, and Liability Act

AGENCY: Environmental Protection Agency (EPA).

ACTION: Notice; request for public comment.

SUMMARY: In accordance with Section 122(i) of the Comprehensive Environmental Response, Compensation, and Liability Act, as amended (CERCLA), 42 U.S.C. 9622(i), notice is hereby given of a proposed administrative settlement concerning the R&H Oil/Tropicana Superfund Site, San Antonio, Bexar County, Texas.

The settlement requires the one hundred nineteen (119) settling parties to pay a total of $2,204,080.23 as payment of response costs to the Hazardous Substances Superfund. The settlement includes a covenant not to sue or take administrative action on matters related to the Site pursuant to Sections 106 and 107 of CERCLA, 42 U.S.C. 9606 and 9607.

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before May 2, 2008.

ADDRESSES: The proposed settlement and additional background information relating to the settlement are available for public inspection at 1445 Ross Avenue, Dallas, Texas 75202-2733. A copy of the proposed settlement may be obtained from Kevin Shade, 6SF-TE, 1445 Ross Avenue, Dallas, Texas 75202-2733 or by calling (214) 665-2708. Comments should reference the R&H Oil/Tropicana Superfund Site, San Antonio, Bexar County, Texas, and EPA Docket Number 06-10-06, and should be addressed to Kevin Shade at the address listed above.

FOR FURTHER INFORMATION CONTACT: I-Jung Chiang, 6RC-S, 1445 Ross Avenue, Dallas, Texas 75202-2733 or call (214) 665-2160.

Dated: March 25, 2008.
Lawrence E. Starfield,
Acting Regional Administrator, Region 6.

[FR Doc. E8-6828 Filed 4-1-08; 8:45 am]

BILLING CODE 6560-50-P